DEPARTMENT OF ENERGY

Federal Energy Regulatory Commission

[Project No. 5737-032]

Santa Clara Valley Water District; Notice of Revised Procedural Schedule for Environmental Impact Statement for the Proposed Surrender of Exemption

On February 20, 2024, and supplemented on May 20, May 28, July 2, July 3, 2024, and February 7 and March 7, 2025, Santa Clara Valley Water District (Valley Water) filed an application with the Federal Energy Regulatory Commission (FERC or Commission) to retrofit the Anderson Dam and to surrender the exemption for the Anderson Dam Project No. 5737 (Project) ¹ located on Coyote Creek, in Santa Clara County, California. The surrender of the exemption and the retrofit of the dam are collectively referred to as the Project.

¹ Santa Clara Valley Irrigation District, 28 FERC ¶ 62,276 (1984).

On October 17, 2024, Commission staff issued a notice of intent to prepare a draft and final EIS to evaluate the effects of the retrofit and environmental impacts that could result whenever it considers the issuance of a surrender order.² The notice included Commission staff's planned schedule for completion of the final EIS for the Project, which is based on an issuance of the draft EIS in May 2025, opening a 45-day public comment period.

² For tracking purposes under the National Environmental Policy Act (NEPA), the unique identification number for documents relating to this environmental review is EISX-019-20-000-1727256582.

On January 14, 2024, the National Marine Fisheries Service (NMFS) filed a letter requesting a 90-day extension of time (from January 23, 2025 to April 23, 2025) to complete formal consultation under the Endangered Species Act (ESA) and consultation on essential fish habitat (EFH) under the Magnuson-Stevens Fishery Conservation and Management Act for the Project. On January 22, 2025, Valley Water agreed to the requested extension of time. In a February 4, 2025 letter, the Commission granted the extension of time request to file the biological opinion by April 23, 2025. On February 7, 2025, the U.S. Army Corps of Engineers, the cooperating agency for the purposes of complying with NEPA, recommended that the extension should be granted. On April 25, 2025 NMFS again requested an extension of time and again Valley Water agreed to the requested extension of time. In an April 29, 2025 letter, the Commission granted the extension of time request to file the biological opinion by May 30, 2025. In order to ensure a complete analysis of Project impacts from the biological opinion, the Commission is duly modifying the schedule to complete the draft and final EIS and surrender order.

The revised schedule is shown below:

Milestone | Target date
Issue Draft EIS | September 12, 2025.
Issue Final EIS | February 6, 2026.

This notice identifies the Commission's anticipated schedule for issuance of the final order for the Project, which serves as the Commission's record of decision. We currently anticipate issuing a final order for the Project no later than:

Issuance of the Surrender Order May 21, 2026

If a schedule change becomes necessary, an additional notice will be provided so that the relevant agencies are kept informed of the Project's progress. After the final EIS is issued, the Commission will make a decision on the proposal.

Any questions regarding this notice may be directed to Holly Frank at holly.frank@ferc.gov or (202) 502-6833 or David Rudisail at david.rudisail@ferc.gov or (202) 502-6376.

Dated: May 7, 2025.
Carlos D. Clay,
Deputy Secretary.

[FR Doc. 2025-08364 Filed 5-12-25; 8:45 am]

BILLING CODE 6717-01-P